NATIONAL SCIENCE FOUNDATION

Notice of Permit Applications Received Under the Antarctic Conservation Act of 1978 (Pub. L. 95-541)

AGENCY: National Science Foundation.

ACTION: Notice of permit modification received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by August 7, 2009. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Description of Permit Modification Requested: The Foundation issued a permit (2008-016) to Dr. Robert A. Garrott on October 1, 2007. The issued permit allows the applicant to census, tag, weigh, and collect blood and tissue samples of Weddell seals and instrument mammals (Antarctic Fur, Leopard, Southern Elephant, Ross, Weddell and Crabeater seals) and seabirds (Chinstrap and Gentoo penguins, Cape Petrels, Giant Petrels, Brown Skuas, South Pole Skuas, Sheathbills, Kelp gulls, and Blue-eyed Shag).

The applicant requests a modification to his permit to temporarily attach temperature logger tags on Weddell pups to determine how much time the mothers spend in the water teaching their pups to swim, forage, and evade aggressive encounters with other seals. The data would also reveal how much time the pups spend in the water which may influence their weight when weaned and their ultimate probability of survival once weaned.

Location: Ross Sea and McMurdo Sound.

Dates: October 1, 2009 to February 28, 2012.

Nadene G. Kennedy,
Permit Officer, Office of Polar Programs.

[FR Doc. E9-15982 Filed 7-7-09; 8:45 am]

BILLING CODE 7555-01-P